SMALL BUSINESS ADMINISTRATION

[Disaster Declaration # 10869]

West Virginia Disaster Number WV-00005

AGENCY: Small Business Administration.

ACTION: Amendment 1.

SUMMARY: This is an amendment of the Presidential declaration of a major disaster for Public Assistance Only for the State of West Virginia (FEMA-1696-DR), dated 05/01/2007.

Incident: Severe Storms, Flooding, Landslides, and Mudslides.

Incident Period: 04/14/2007 through 04/18/2007.

DATES: Effective Date: 05/10/2007.

Physical Loan Application Deadline Date: 07/02/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW, Suite 6050, Washington, DC 20416.

SUPPLEMENTARY INFORMATION: The notice of the President's major disaster declaration for Private Non-Profit organizations in the State of West Virginia 05/01/2007, is hereby amended to include the following areas as adversely affected by the disaster.

Primary Counties: Barbour, Gilmer, Grant, Hardy, Lewis, Mcdowell, Pendleton, Pocahontas, Putnam, Upshur, Webster.

All other information in the original declaration remains unchanged.

(Catalog of Federal Domestic Assistance Number 59008)

James E. Rivera,
Acting Associate Administrator for Disaster Assistance.

[FR Doc. E7-9579 Filed 5-17-07; 8:45 am]

BILLING CODE 8025-01-P